DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF), as follows: Chapter KB, the Administration on Children, Youth and Families (ACYF), as last amended May 23, 2006, 71 FR 29649, and October 6, 2006, 71 FR 59117. This notice reflects realignment of the Family Violence Prevention and Services Program from the Division of State Assistance, Office of Community Services, to the Family and Youth Services Bureau, ACYF. This notice also reflects the reassignment of certain Abstinence Education activities from the Maternal and Child Health Bureau, Health Resources Services Administration (HRSA), to the Family and Youth Services Bureau, ACYF. In addition, this notice establishes three divisions under the Family and Youth Services Bureau. Chapter KB is amended as follows:

Chapter KB, Administration on Children, Youth and Families

A. Delete the last sentence of KB.00 Mission and replace the last sentence with the following:

It administers Child Welfare Services training and Child Welfare Services research and demonstration programs authorized by title IV-B of the Social Security Act; administers programs under the Runaway and Homeless Youth Act; administers abstinence education grants under section 510 of the Social Security Act and other abstinence education programs; carries out provisions of the Family Violence Prevention and Services Act, administers the program for mentoring children of prisoners under section 439 of the Social Security Act; and manages initiatives to involve the private and voluntary sectors in the areas of children, youth and families.

B. Delete KB.10 Organization in its entirety and replace with the following:

KB.10 Organization. The Administration on Children, Youth and Families is headed by a Commissioner, who reports directly to the Assistant Secretary for Children and Families and consists of:

• Office of the Commissioner (KBA)

• Office of Management Services (KBA1)

• Program Operations Division (KBC1)

• Program Support Division (KBC2)

• Program Management Division (KBC3)

• Children's Bureau (KBD)

• Children's Bureau Regional Units (KBDDI-X)

• Office of Child Abuse and Neglect (KBD1)

• Division of Policy (KBD2)

• Division of Program Implementation (KBD3)

• Division of Data, Research and Innovation (KBD4)

• Division of Child Welfare Capacity Building (KBD5)

• Division of State Systems (KBD6)

• Family and Youth Services Bureau (KBE)

• Division of Youth Services (KBE1)

• Division of Family Violence Prevention (KBE2)

• Division of Abstinence Programs (KBE3)

• Immediate Office/Administration (KBG1)

• Program Operations Division (KBG2)

• Policy Division (KBG3)

• Technical Assistance Division (KBG4)

C. Delete KB.20 Functions, Paragraph E, in its entirety and replace with the following: KB.20 Functions. E. The Family and Youth Services Bureau is headed by an Associate Commissioner who recommends policy direction and programs to address issues involving youth, family, abstinence education, mentoring children of prisoners, and domestic violence issues to the Commissioner, ACYF. The Associate Commissioner has a Deputy Associate Commissioner who acts as his alter ego and is responsible for the day-to-day direction of three divisions. The Office of the Associate Commissioner also has a Research, Data and Evaluation Team and a Regional Operations Team. The Bureau assesses policies, legislation and programs that affect runaway and homeless youth, families, mentoring children of prisoners, domestic violence and abstinence education. It recommends budgetary and legislative proposals and subject areas for research and demonstration activities; coordinates efforts with and provides expert advice to departmental and other federal agencies on youth issues and programs including runaway and homeless youth and youth at risk of involvement with gangs, violence and drugs and other youth in at-risk situations; and develops program initiatives to address abstinence education and the needs of runaway and homeless youth, families, children of prisoners and domestic violence victims and their dependents. The Bureau represents HHS on various councils, workgroups and committees and provides leadership and coordination to other HHS programs and agencies. The Bureau has the following divisions:

1. The Division of Youth Services promotes a youth development approach to program services so that Bureau programs and activities are planned and designed with an emphasis on meeting the developmental needs of young people and their families, including runaway and homeless youth, youth at risk of involvement with gangs, violence and drugs and other youth in at-risk situations. The Division's administration of the runaway and homeless youth program—which incorporates the basic center, street outreach and transitional living programs—includes development and implementation of policy, guidelines and regulations concerning the funding and management of service projects for youth under the Runaway and Homeless Youth Act. Administration of the program for mentoring children of prisoners authorized under section 439 of the Social Security Act also includes development of policy, guidelines and regulations regarding the funding and management of grant projects and other activities.

The Division oversees the receipt and review of applications for grants that ultimately provide services to youth and families and monitors the management of these grants in the ACF Regional Offices. In addition, the Division designs, develops, funds and monitors support activities related to these programs, including, but not limited to, the provision of technical assistance, a monitoring system, a data collection system, a family and youth clearinghouse and a national communications system/hotline.

The Division determines the conceptual and policy framework to address issues facing families and adolescents. It identities problems, defines critical issues for investigation and makes recommendations regarding subject areas for research, demonstration and evaluation activities. Based on the outcomes of these activities, the Division disseminates information through conferences, forums and written materials; provides assistance to service providers and state and local governments in planning, developing, implementing and evaluating programs affecting family and youth; and recommends plans and programs to increase public awareness and understanding about activities affecting vulnerable families and youth.

2. The Division of Family Violence Prevention promotes public awareness about domestic violence and its impact. The Division's programs support the prevention of family violence; provide immediate shelter and related assistance to victims of family violence and their dependents; provide for research into the most effective prevention, identification and treatment of family violence; and provide training and technical assistance to family violence personnel in states, tribes, local public agencies (including law enforcement agencies, courts, social service agencies and health care professionals) and non-profit organizations. The Division is responsible for developing, updating and implementing program regulations and policies. The Division oversees the receipt and review of applications for grants and certain grantee activities. It also provides guidance, review, support and assistance to states and grantees on HHS policies, regulations, procedures and systems necessary to ensure efficient program operation at the state, territorial and tribal levels. In addition, the Division coordinates all programs within the Department of Health and Human Services, and seeks to coordinate all other Federal programs, which involve the prevention of incidents of family violence and the provision of assistance for victims and potential victims of family violence and their dependents.

3. The Division of Abstinence Programs manages the Abstinence Education State Grant Program, which provides formula grants to states and other jurisdictions for the purpose of providing abstinence education as defined by Section 510 of the Social Security Act. The Division also manages the Community-Based Abstinence Education Grant Program, which makes competitive grants to public and private entities to plan and implement strategies for providing abstinence education to adolescents. The Division develops the conceptual framework to address abstinence education issues, monitors and assesses the programs and ensures the provision of technical assistance.

Dated: April 19, 2007.
Daniel C. Schneider,
Acting Assistant Secretary for Children and Families.

[FR Doc. E7-8318 Filed 5-1-07; 8:45 am]

BILLING CODE 4184-01-P